DEPARTMENT OF LABOR

Employment and Training Administration

[TA-W-65,537]

Avery Dennison Information And Brand Management Division, Sayre, PA; Notice of Termination of Investigation

Pursuant to Section 221 of the Trade Act of 1974, as amended, an investigation was initiated on March 10, 2009 in response to a petition filed by a company official on behalf of workers of Avery Dennison, Information and Brand Management Division, Sayre, Pennsylvania.

The petitioner has requested that the petition be withdrawn. Therefore, the investigation under this petition has been terminated.

Signed at Washington, DC, this 14th day of April 2009.
Linda G. Poole,
Certifying Officer, Division of Trade Adjustment Assistance.

[FR Doc. E9-10875 Filed 5-8-09; 8:45 am]

BILLING CODE 4510-FN-P